DEPARTMENT OF ENERGY

Federal Energy Regulatory Commission

Combined Notice of Filings #1

Take notice that the Commission received the following electric rate filings:

Docket Numbers: ER20-1558-001.

Applicants: PacifiCorp.

Description: Tariff Amendment: Lincoln Solar LGIA—Deficiency dated 6/10/2020 to be effective 6/13/2020.

Filed Date: 7/10/20.

Accession Number: 20200710-5135.

Comments Due: 5 p.m. ET 7/31/20.

Docket Numbers: ER20-2288-000.

Applicants: Tatanka Ridge Wind, LLC.

Description: Supplement to July 1, 2020 Tatanka Ridge Wind, LLC tariff filing.

Filed Date: 7/9/20.

Accession Number: 20200709-5164.

Comments Due: 5 p.m. ET 7/30/20.

Docket Numbers: ER20-2364-000.

Applicants: Midcontinent Independent System Operator, Inc.

Description: Compliance filing: 2020-07-10_SA 3512 NSP-NSP FSA (J399) to be effective 6/30/2020.

Filed Date: 7/10/20.

Accession Number: 20200710-5049.

Comments Due: 5 p.m. ET 7/31/20.

Docket Numbers: ER20-2365-000.

Applicants: Basin Electric Power Cooperative.

Description: Baseline eTariff Filing: Basin Electric Submission of Open Access Transmission Tariff and ATRR to be effective 7/10/2020.

Filed Date: 7/10/20.

Accession Number: 20200710-5055.

Comments Due: 5 p.m. ET 7/31/20.

Docket Numbers: ER20-2366-000.

Applicants: Basin Electric Power Cooperative.

Description: Baseline eTariff Filing: Submission of Missouri Basin Power Project Agreements to be effective 7/10/2020.

Filed Date: 7/10/20.

Accession Number: 20200710-5056.

Comments Due: 5 p.m. ET 7/31/20.

Docket Numbers: ER20-2367-000.

Applicants: Luning Energy LLC.

Description: Compliance filing: Compliance Filing—Amendment to Market-Based Rate Tariff to be effective 5/1/2020.

Filed Date: 7/10/20.

Accession Number: 20200710-5057.

Comments Due: 5 p.m. ET 7/31/20.

Docket Numbers: ER20-2368-000.

Applicants: Basin Electric Power Cooperative.

Description: Initial rate filing: Basin Electric Submission of WestConnect Regional Point-to-Point Tariff to be effective 7/10/2020.

Filed Date: 7/10/20.

Accession Number: 20200710-5066.

Comments Due: 5 p.m. ET 7/31/20.

Docket Numbers: ER20-2369-000.

Applicants: Midcontinent Independent System Operator, Inc.

Description: Section 205(d) Rate Filing: 2020-07-10_Attachment X True Up Filing for Pro Forma FSA and SATOA language to be effective 3/15/2020.

Filed Date: 7/10/20.

Accession Number: 20200710-5070.

Comments Due: 5 p.m. ET 7/31/20.

Docket Numbers: ER20-2370-000.

Applicants: Basin Electric Power Cooperative.

Description: Compliance filing: Submission of Order No. 845 Compliance Filing to be effective 7/10/2020.

Filed Date: 7/10/20.

Accession Number: 20200710-5072.

Comments Due: 5 p.m. ET 7/31/20.

Docket Numbers: ER20-2371-000.

Applicants: Interstate Power and Light Company.

Description: Section 205(d) Rate Filing: IPL-NSP Freeborn LBA Agreement to be effective 9/9/2020.

Filed Date: 7/10/20.

Accession Number: 20200710-5073.

Comments Due: 5 p.m. ET 7/31/20.

Docket Numbers: ER20-2372-000.

Applicants: Basin Electric Power Cooperative.

Description: Baseline eTariff Filing: Basin Electric Submission of Transmission Service Agreements to be effective 7/10/2020.

Filed Date: 7/10/20.

Accession Number: 20200710-5078.

Comments Due: 5 p.m. ET 7/31/20.

Docket Numbers: ER20-2373-000.

Applicants: Midcontinent Independent System Operator, Inc.

Description: Compliance filing: 2020-07-10_SA 3049 NSP-NSP 1st Rev GIA (J399) to be effective 7/7/2020.

Filed Date: 7/10/20.

Accession Number: 20200710-5079.

Comments Due: 5 p.m. ET 7/31/20.

Docket Numbers: ER20-2374-000.

Applicants: California Independent System Operator Corporation.

Description: Section 205(d) Rate Filing: 2020-07-10 Tariff Clarifications Filing to be effective 9/9/2020.

Filed Date: 7/10/20.

Accession Number: 20200710-5100.

Comments Due: 5 p.m. ET 7/31/20.

Docket Numbers: ER20-2375-000.

Applicants: Southern California Edison Company.

Description: Section 205(d) Rate Filing: Amended UFA Atlas Solar Project TOT870 SA No. 242 to be effective 7/11/2020.

Filed Date: 7/10/20.

Accession Number: 20200710-5101.

Comments Due: 5 p.m. ET 7/31/20.

Docket Numbers: ER20-2376-000.

Applicants: Duke Energy Indiana, LLC.

Description: Section 205(d) Rate Filing: Unexecuted Amended Interconnection Agreement DEI—Vectren to be effective 6/11/2020.

Filed Date: 7/10/20.

Accession Number: 20200710-5113.

Comments Due: 5 p.m. ET 7/31/20.

Docket Numbers: ER20-2377-000.

Applicants: Wisconsin Electric Power Company.

Description: Section 205(d) Rate Filing: Formula Rate Update Filing for 2019 Rate Year to be effective 9/9/2020.

Filed Date: 7/10/20.

Accession Number: 20200710-5138.

Comments Due: 5 p.m. ET 7/31/20.

Docket Numbers: ER20-2378-000.

Applicants: Otter Tail Power Company.

Description: Section 205(d) Rate Filing: Remedial Action Scheme Service Filing to be effective 9/8/2020.

Filed Date: 7/10/20.

Accession Number: 20200710-5143.

Comments Due: 5 p.m. ET 7/31/20.

Docket Numbers: ER20-2379-000.

Applicants: Sugar Creek Wind One LLC.

Description: Baseline eTariff Filing: Market-Based Rates Tariff Application to be effective 7/15/2020.

Filed Date: 7/10/20.

Accession Number: 20200710-5144.

Comments Due: 5 p.m. ET 7/31/20.

Docket Numbers: ER20-2380-000.

Applicants: Saint Solar, LLC.

Description: Baseline eTariff Filing: Saint Solar, LLC Application for MBR Authority to be effective 9/9/2020.

Filed Date: 7/10/20.

Accession Number: 20200710-5146.

Comments Due: 5 p.m. ET 7/31/20.

Docket Numbers: ER20-2381-000.

Applicants: PJM Interconnection, L.L.C.

Description: Section 205(d) Rate Filing: Original ISA, SA No. 5680; Queue No. AC1-120/AC1-121 to be effective 6/11/2020.

Filed Date: 7/10/20.

Accession Number: 20200710-5169.

Comments Due: 5 p.m. ET 7/31/20.

Take notice that the Commission received the following electric securities filings:

Docket Numbers: ES20-45-000.

Applicants: Indianapolis Power & Light Company.

Description: Supplement to June 24, 2020 Application Under Section 204 of the Federal Power Act for Authorization to Issue Securities of Indianapolis Power & Light Company.

Filed Date: 7/9/20.

Accession Number: 20200709-5032.

Comments Due: 5 p.m. ET 7/14/20.

Docket Numbers: ES20-45-000.

Applicants: Indianapolis Power & Light Company.

Description: Supplement to July 9, 2020 Supplement to Application Under Section 204 of the Federal Power Act for Authorization to Issue Securities of Indianapolis Power & Light Company.

Filed Date: 7/10/20.

Accession Number: 20200710-5152.

Comments Due: 5 p.m. ET 7/15/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 10, 2020.
Nathaniel J. Davis, Sr.,
Deputy Secretary.

[FR Doc. 2020-15608 Filed 7-23-20; 8:45 am]

BILLING CODE 6717-01-P